DEPARTMENT OF JUSTICE

Notice of Lodging of Proposed Consent Decree Under the Clean Air Act

On November 19, 2013, the Department of Justice lodged a proposed Consent Decree with the United States District Court for the Western District of Louisiana, Lafayette Division, in the lawsuit entitled United States, et al. v. CABOT Corporation, Case No. 6:13-cv-03095.

The proposed Consent Decree resolves the United States' and the Louisiana Department of Environmental Quality's (“LDEQ”) claims that Cabot violated the Prevention of Significant Deterioration (“PSD”) provisions of the Clean Air Act (“CAA”), 42 U.S.C. 7470-7492, as well as the federally approved PSD regulations of the States of Louisiana and Texas, at these facilities, resulting in excess emissions of nitrogen oxide (“NOX”), sulfur dioxide (“SO2”), and particulate matter (“PM”). Under the proposed Consent Decree, Cabot has agreed to implement $84 million in injunctive relief, to perform environmental mitigation projects valued at $450,000 and to pay a $975,000 civil penalty to resolve the governments' claims.

The publication of this notice opens a period for public comment on the Consent Decree. Comments should be addressed to the Assistant Attorney General, Environment and Natural Resources Division, and should refer to United States of America v. CABOT Corporation, D.J. Ref. No. 90-5-2-1-10355. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $22.50 (25 cents per page reproduction cost) payable to the United States Treasury.

Thomas P. Carroll,
Assistant Chief, Environmental Enforcement Section, Environment and Natural Resources Division.

[FR Doc. 2013-28315 Filed 11-25-13; 8:45 am]

BILLING CODE 4410-15-P